DEPARTMENT OF VETERANS AFFAIRS

Loan Guaranty: Assistance to Eligible Individuals in Acquiring Specially Adapted Housing; Cost-of-Construction Index

AGENCY: Department of Veterans Affairs.

ACTION: Notice.

SUMMARY: The U. S. Department of Veterans Affairs (VA) announces that the aggregate amounts of assistance available under the Specially Adapted Housing (SAH) grant program remains unchanged during fiscal year 2011, pursuant to 38 CFR 36.4412.

DATES: Effective Date: October 1, 2010.

FOR FURTHER INFORMATION CONTACT: William White, Acting Assistant Director for Loan Policy and Valuation, Department of Veterans Affairs, 810 Vermont Avenue, NW., Washington, DC 20420, (571) 272-0084 (not a toll-free number).

SUPPLEMENTARY INFORMATION: In accordance with 38 U.S.C. 2102(e) and 38 CFR 36.4412(c), the Secretary of the Department of Veterans Affairs announces the aggregate amounts of assistance available to Veterans and Servicemembers eligible for the Specially Adapted Housing program grants during fiscal year 2011.

Public Law 110-289, the Housing and Economic Recovery Act of 2008, authorized the Secretary to increase the aggregate amounts of SAH assistance annually based on a residential home cost-of-construction index. The Secretary uses the Turner Building Cost Index for this purpose.

During the most recent calendar year for which the Turner Building Cost Index is available, 2009, the index did not increase as compared to the next preceding year. Pursuant to 38 CFR 36.4412(b), therefore, the aggregate amounts of assistance for Specially Adapted Housing grants will remain unchanged during fiscal year 2011.

Full Text of Announcement Reads as Follows:

Specially Adapted Housing: Aggregate Amounts of Assistance Available During Fiscal Year 2011

2101(a) Grants

The aggregate amount of assistance available for SAH grants made pursuant to 38 U.S.C. 2101(a) will be $63,780 during fiscal year 2011.

2101(b) Grants

The aggregate amount of assistance available for SAH grants made pursuant to 38 U.S.C. 2101(b) will be $12,756 during fiscal year 2011.

Temporary Residence Adaption (TRA) Grants

Please note that TRA grants made pursuant to 38 U.S.C. 2102A are not indexed, and the amounts of assistance remain unchanged at $14,000 for individuals eligible for the 2101(a) grant and $2,000 for individuals eligible for the 2101(b) grant.

Approved: November 1, 2010.
John R. Gingrich,
Chief of Staff, Department of Veterans Affairs.

[FR Doc. 2010-28127 Filed 11-5-10; 8:45 am]

BILLING CODE P